DEPARTMENT OF TRANSPORTATION

Federal Motor Carrier Safety Administration

[Docket No. FMCSA-2014-0296]

Qualification of Drivers; Exemption Applications; Vision

AGENCY: Federal Motor Carrier Safety Administration (FMCSA), DOT.

ACTION: Notice of applications for exemptions, request for comments.

SUMMARY: FMCSA announces receipt of applications from 33 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before October 30, 2014. All comments will be investigated by FMCSA. The exemptions will be issued the day after the comment period closes.

ADDRESSES: You may submit comments bearing the Federal Docket Management System (FDMS) Docket No. FMCSA-2014-0296 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the Federal Docket Management System (FDMS) published in the Federal Register on January 17, 2008 (73 FR 3316).

FOR FURTHER INFORMATION CONTACT: Elaine M. Papp, R.N., Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 33 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Terry A. Adler

Mr. Adler, 38, has had amblyopia in his right eye since birth. The visual acuity in his right eye is 20/50, and in his left eye, 20/20. Following an examination in 2014, his optometrist stated, “His right eye is slightly amblyopic. He should have no problems operating and continuing to operate a CMV.” Mr. Adler reported that he has driven straight trucks for 18 years, accumulating 180,000 miles, and tractor-trailer combinations for 18 years, accumulating 900,000 miles. He holds a Class A3 CDL from South Dakota. His driving record for the last 3 years shows no crashes and no convictions for moving violations in a CMV.

Richard J. Beck

Mr. Beck, 57, has had a macular scar and histoplasmosis in his left eye since 2004. The visual acuity in his right eye is 20/20, and in his left eye, 20/400. Following an examination in 2014, his optometrist stated, “It is my opinion that Mr. Richard J. Beck has completed the above test acurately [sic], and is able to safley [sic] perform the driving task required to operate a commercial vehicle.” Mr. Beck reported that he has driven straight trucks for 28 years, accumulating 728,000 miles. He holds an operator's license from Illinois. His driving record for the last 3 years shows no crashes and no convictions for moving violations in a CMV.

Avis C. Bell

Mr. Bell, 72, has had a retinal detachment and glaucoma in his right eye since 2003. The visual acuity in his right eye is no light perception, and in his left eye, 20/25. Following an examination in 2014, his ophthalmologist stated, “I feel the patients [sic] vision in his left eye is sufficient to perform the driving tasks required to operate a commercial vehicle.” Mr. Bell reported that he has driven buses for 3 years, accumulating 19,500 miles. He holds a chauffer's license from Indiana. His driving record for the last 3 years shows no crashes and no convictions for moving violations in a CMV.

Jeffrey L. Bendix

Mr. Bendix, 44, has had amblyopia in his right eye since birth. The visual acuity in his right eye is 20/50, and in his left eye, 20/20. Following an examination in 2013, his optometrist stated, “In my medical opinion Jeff Bendix has significant vision to perform the driving tasks required to operate a commercial vehicle.” Mr. Bendix reported that he has driven straight trucks for 25 years, accumulating 125,000 miles, and tractor-trailer combinations for 15 years, accumulating 15,000 miles. He holds a Class C3 CDL from South Dakota. His driving record for the last 3 years shows no crashes and no convictions for moving violations in a CMV.

Edward L. Bon

Mr. Bon, 42, has complete loss of vision in his right eye due to a traumatic incident during childhood. The visual acuity in his right eye is no light perception, and in his left eye, 20/20. Following an examination in 2014, his ophthalmologist stated, “In my opinion, his vision is sufficient to perform his driving tasks required to operate a commercial vehicle.” Mr. Bon reported that he has driven straight trucks for 6 years, accumulating 90,000 miles. He holds a chauffer's license from Louisiana. His driving record for the last 3 years shows no crashes and no convictions for moving violations in a CMV.

William L. Brady

Mr. Brady, 57, has had refractive amblyopia in his left eye since childhood. The visual acuity in his right eye is 20/20, and in his left eye, 20/150. Following an examination in 2014, his optometrist stated, “In my opinion William has sufficient vision to perform the driving tasks required to operate a commercial vehicle.” Mr. Brady reported that he has driven straight trucks for 17 years, accumulating 42,500 miles. He holds a Class B CDL from Kansas. His driving record for the last 3 years shows no crashes and no convictions for moving violations in a CMV.

Marty R. Brewster

Mr. Brewster, 31, has had amblyopia in his right eye since childhood. The visual acuity in his right eye is 20/80, and in his left eye, 20/10. Following an examination in 2014, his optometrist stated, “Mr. Brewster was seen in my office on July 11, 2014 for an exam to evaluate his vision for renewal of his commercial driver's license . . . Mr. Brewster is capable of driving any motor vehicle in my professional opinion.” Mr. Brewster reported that he has driven straight trucks for 9 years, accumulating 135,000 miles, and tractor-trailer combinations for 9 years, accumulating 67,500 miles. He holds an operator's license from Oklahoma. His driving record for the last 3 years shows no crashes and no convictions for moving violations in a CMV.

John M. Brown

Mr. Brown, 50, has had histoplasmosis in his right eye since childhood. The visual acuity in his right eye is 20/200, and in his left eye, 20/20. Following an examination in 2014, his optometrist stated, “It is in my professional opinion that Mr. Brown has sufficient vision to perform driving tasks required to operate a commercial vehicle.” Mr. Brown reported that he has driven straight trucks for 7 years, accumulating 72,800 miles. He holds an operator's license from Kentucky. His driving record for the last 3 years shows no crashes and no convictions for moving violations in a CMV.

Robert M. Cassell, Jr.

Mr. Cassell, 46, has had central serous retinopathy in his left eye since 2007. The visual acuity in his right eye is 20/15, and in his left eye, 20/80. Following an examination in 2014, his optometrist stated, “In my medical opinion, Robert Cassell has sufficient vision to perform the driving tasks required to operate a commercial vehicle.” Mr. Cassell reported that he has driven straight trucks for 28 years, accumulating 700,000 miles, and tractor-trailer combinations for 20 years, accumulating 600,000 miles. He holds a Class A CDL from North Carolina. His driving record for the last 3 years shows no crashes and no convictions for moving violations in a CMV.

Henry L. Chrestensen, Sr.

Mr. Chrestensen, 58, has enucleation in his left eye due to a traumatic incident in 2012. The visual acuity in his right eye is 20/20, and in his left eye, no light perception. Following an examination in 2013, his ophthalmologist stated, “In my medical opinion as a board certified ophthalmologist, I believe you have sufficient vision to perform the driving tasks required in operating a commercial vehicle.” Mr. Chrestensen reported that he has driven straight trucks for 1 year, accumulating 45,000 miles, and tractor-trailer combinations for 35 years, accumulating 3.68 million miles. He holds a Class A CDL from Iowa. His driving record for the last 3 years shows no crashes and no convictions for moving violations in a CMV.

Charles D. Cohoon

Mr. Cohoon, 67, has a macular scar in his right eye due to a traumatic incident during birth. The visual acuity in his right eye is 20/200, and in his left eye, 20/20. Mr. Cohoon reported that he has driven buses for 4 years, accumulating 4,000 miles. He holds an operator's license from Florida. His driving record for the last 3 years shows no crashes and no convictions for moving violations in a CMV.

Jack M. Conklin

Mr. Conklin, 60, has had amblyopia in his left eye since childhood. The visual acuity in his right eye is 20/30 and in his left eye, counting fingers. Following an examination in 2013, his ophthalmologist stated, “In my opinion, Mr. Conklin has sufficient vision to continue performing the driving of a commercial vehicle, which he has done for decades.” Mr. Conklin reported that he has driven straight trucks for 40 years, accumulating 800,000 miles. He holds an operator's license from Nebraska. His driving record for the last 3 years shows no crashes and no convictions for moving violations in a CMV.

Michael E. Cummins

Mr. Cummins, 66, has a macular scar in his left eye due to a traumatic incident at birth. The visual acuity in his right eye is 20/20, and in his left eye, 20/100. Following an examination in 2014, his optometrist stated, “In my opinion, Michael Cummins has sufficient vision to perform the driving tasks required to operate a commercial vehicle.” Mr. Cummins reported that he has driven straight trucks for 50 years, accumulating 600,000 miles, and tractor-trailer combinations for 35 years, accumulating 1.75 million miles. He holds an operator's license from Illinois. His driving record for the last 3 years shows no crashes and no convictions for moving violations in a CMV.

Dave J. Eckert

Mr. Eckert, 44, has had amblyopia in his left eye since birth. The visual acuity in his right eye is 20/20, and in his left eye, 20/70. Following an examination in 2014, his optometrist stated, “In my medical opinion Dave Eckert has sufficient vision to perform the driving tasks required to operate a commercial vehicle.” Mr. Eckert reported that he has driven straight trucks for 11 years, accumulating 22,000 miles, and tractor-trailer combinations for 11 years, accumulating 451,000 miles. He holds a Class AM1 CDL from California. His driving record for the last 3 years shows no crashes and no convictions for moving violations in a CMV.

Sanford L. Goodwin

Mr. Goodwin, 51, has had central suppression consistent with amblyopia in his right eye since childhood. The visual acuity in his right eye is 20/300, and in his left eye, 20/20. Following an examination in 2014, his ophthalmologist stated, “Patient visual deficiency is stable and I feel that Mr. Goodwin has sufficient vision to perform the driving tasks required to operate a commercial vehicle.” Mr. Goodwin reported that he has driven tractor-trailer combinations for 6 years, accumulating 75,000 miles. He holds a Class A CDL from Texas. His driving record for the last 3 years shows no crashes and no convictions for moving violations in a CMV.

Tonia L. Graves

Ms. Graves, 38, has had strabismic amblyopia in her left eye since birth. The visual acuity in her right eye is 20/20, and in her left eye, 20/60. Following an examination in 2014, her optometrist stated, “It is my professional opinion that Ms. Graves is capable of performing all driving tasks and is safe to operate a commercial vehicle. Although I did recommend a pair of distance glasses for Ms. Graves, the prescription is not high enough to warrant it being a requirement for her driving.” Ms. Graves reported that she has driven buses for 6.5 years, accumulating 71,500 miles. She holds an operator's license from Arizona. Her driving record for the last 3 years shows no crashes and no convictions for moving violations in a CMV.

Gregory S. Hatten

Mr. Hatten, 57, has had a macular scar due to a bacterial infection in his right eye since childhood. The visual acuity in his right eye is 20/400, and in his left eye, 20/20. Following an examination in 2014, his optometrist stated, “I certify that Mr. Greg Hatten has sufficient vision to perform the driving tasks required to operate a commercial vehicle.” Mr. Hatten reported that he has driven straight trucks for 36 years, accumulating 720,000 miles. He holds an operator's license from Louisiana. His driving record for the last 3 years shows no crashes and no convictions for moving violations in a CMV.

Jason P. Jones

Mr. Jones, 44, has had vision loss due to end stage maculopathy from toxoplasmosis in his right eye since childhood. The visual acuity in his right eye is 20/400, and in his left eye, 20/20. Following an examination in 2014, his optometrist stated, “I do certify that, in my medical opinion, Mr. Jones does have sufficient vision to perform the driving tasks required to operate a commercial vehicle.” Mr. Jones reported that he has driven straight trucks for 20 years, accumulating 110,000 miles. He holds an operator's license from Indiana. His driving record for the last 3 years shows one crash, for which he was not cited, and no convictions for moving violations in a CMV.

Jason R. King

Mr. King, 34, has had a retinal detachment in his left eye since 1998. The visual acuity in his right eye is 20/20, and in his left eye, 20/400. Following an examination in 2014, his optometrist stated, “In my medical opinion, based on his testing and 13 years without incident, I believe Mr. King has sufficient vision to perform the driving tasks required to operate a commercial vehicle.” Mr. King reported that he has driven straight trucks for 12 years, accumulating 6,000 miles. He holds an operator's license from Missouri. His driving record for the last 3 years shows no crashes and no convictions for moving violations in a CMV.

Theodore J. Laycock

Mr. Laycock, 68, has complete loss of vision in his left eye due to a traumatic incident in 1972. The visual acuity in his right eye is 20/20, and in his left eye, no light perception. Following an examination in 2014, his ophthalmologist stated, “In my medical opinion, patient has been monocular since 1972. Has excellent vision OD with normal field and is able to preform [sic] the driving tasks required to operate a commercial vehicle.” Mr. Laycock reported that he has driven straight trucks for 51 years, accumulating 1.28 million miles, and tractor-trailer combinations for 11 years, accumulating 132,000 miles. He holds a Class A CDL from Massachusetts. His driving record for the last 3 years shows no crashes and no convictions for moving violations in a CMV.

Thomas J. Long III

Mr. Long, 45, has had amblyopia in his left eye since childhood. The visual acuity in his right eye is 20/15, and in his left eye, 20/150. Following an examination in 2014, his ophthalmologist stated, “Lifelong deficiency of vision in the left eye. There is no evidence of progression . . . He seems to be able to operate a commercial vehicle in state for many years and has had the ability to do the same task interstate in the past, before he allowed his waiver to lapse. Thus in my opinion there is no change that would have reduced or eliminate [sic] that ability which he has shown evidence of having in the past.” Mr. Long reported that he has driven straight trucks for 27 years, accumulating 1.62 million miles. He holds a Class B CDL from Maryland. His driving record for the last 3 years shows no crashes and two convictions for moving violations in a CMV; in one instance he exceeded the speed limit by 18 mph; in another instance, he was using a hand-held telephone while operating a moving vehicle.

Marcus E. Manson

Mr. Manson, 35, has had amblyopia in his left eye since childhood. The visual acuity in his right eye is 20/30, and in his left eye, 20/200. Following an examination in 2014, his ophthalmologist stated, “In my opinion, patient's vision of 30/30 [sic] in the right eye and 20/200 in the left eye is stable and should be sufficient vision to operate a commercial vehicle.” Mr. Manson reported that he has driven straight trucks for 6 years, accumulating 9,000 miles. He holds an operator's license from Texas. His driving record for the last 3 years shows no crashes and no convictions for moving violations in a CMV.

Thomas J. McClure

Mr. McClure, 61, has had central retinal artery occlusion in his right eye since 1998. The visual acuity in his right eye is no light perception, and in his left eye, 20/20. Following an examination in 2014, his optometrist stated, “In my opinion, Tom has sufficient vision to perform the driving tasks required to operate a commercial vehicle.” Mr. McClure reported that he has driven straight trucks for 33 years, accumulating 412,500 miles. He holds an operator's license from Iowa. His driving record for the last 3 years shows no crashes and no convictions for moving violations in a CMV.

Steven W. Miller

Mr. Miller, 61, has had amblyopia and exotropia in his left eye since birth. The visual acuity in his right eye is 20/20, and in his left eye, 20/400. Following an examination in 2014, his optometrist stated, “I, Michael G. Bonner, OD certify that Steve Miller has sufficient vision to perform the driving tasks required to operate a commercial vehicle.” Mr. Miller reported that he has driven straight trucks for 12 years, accumulating 600,000 miles, and tractor-trailer combinations for 10 years, accumulating 10,000 miles. He holds a Class A CDL from Pennsylvania. His driving record for the last 3 years shows no crashes and no convictions for moving violations in a CMV.

Aaron F. Naylor

Mr. Naylor, 31, has enucleation in his left eye due to a traumatic incident in 2010. The visual acuity in his right eye is 20/20, and in his left eye, no light perception. Following an examination in 2014, his ophthalmologist stated, “Mr. Naylor may resume his commercial driving duties. He has no visual restriction.” Mr. Naylor reported that he has driven straight trucks for 3 years, accumulating 45,000 miles, tractor-trailer combinations for 5 years, accumulating 625,000 miles, and buses for 1 year, accumulating 4,000 miles. He holds a Class AM CDL from Pennsylvania. His driving record for the last 3 years shows no crashes and no convictions for moving violations in a CMV.

Billy R. O'Guynn

Mr. O'Guynn, 48, has complete loss of vision in his left eye due to a traumatic incident during birth. The visual acuity in his right eye is 20/20, and in his left eye, no light perception. Following an examination in 2014, his ophthalmologist stated, “Based on my examination, I consider that Mr. O'Guynn has sufficient vision and visual function to perform the tasks required to operate a commercial vehicle without restriction.” Mr. O'Guynn reported that he has driven straight trucks for 3 years, accumulating 210,000 miles, and tractor-trailer combinations for 25 years, accumulating 2.06 million miles. He holds a Class AMV CDL from Alabama. His driving record for the last 3 years shows one crash, for which he was not cited, and no convictions for moving violations in a CMV.

Walter B. Peltier

Mr. Peltier, 67, has had strabismic amblyopia in his left eye since birth. The visual acuity in his right eye is 20/30, and in his left eye, 20/60. Following an examination in 2014, his optometrist stated, “In my medical opinion Walter Peltier has sufficient vision to perform driving tasks required to operate a commercial vehicle.” Mr. Peltier reported that he has driven tractor-trailer combinations for 38 years, accumulating 2.01 million miles. He holds an operator's license from Arizona. His driving record for the last 3 years shows no crashes and no convictions for moving violations in a CMV.

Gregory S. Rasnic

Mr. Rasnic, 43, has had a prosthetic right eye since childhood. The visual acuity in his right eye is no light perception, and in his left eye, 20/20. Following an examination in 2014, his ophthalmologist stated, “In my medical opinion, he does have sufficient vision in his left eye according to current guidelines to perform the driving tasks required to operate a commercial vehicle for Interstate Commerce [sic].” Mr. Rasnic reported that he has driven straight trucks for 3 years, accumulating 57,600 miles. He holds an operator's license from Ohio. His driving record for the last 3 years shows no crashes and no convictions for moving violations in a CMV.

Jimmy D. Renfroe

Mr. Renfroe, 27, has a cataract in his right eye due to a traumatic incident during childhood. The visual acuity in his right eye is light perception, and in his left eye, 20/20. Following an examination in 2014, his optometrist stated, “. . . in my medical opinion, Mr. Renfroe has sufficient vision to perform the driving tasks required to operate a commercial vehicle.” Mr. Renfroe reported that he has driven straight trucks for 3 years, accumulating 121,800 miles, and tractor-trailer combinations for 3 years, accumulating 90,000 miles. He holds a Class A CDL from Arkansas. His driving record for the last 3 years shows no crashes and no convictions for moving violations in a CMV.

Sabahudin Sabic

Mr. Sabic, 46, has a prosthetic left eye due to a traumatic incident in 1993. The visual acuity in his right eye is 20/20, and in his left eye, no light perception. Following an examination in 2014, his optometrist stated, “I believe Mr. Sabic knows his own limitations of both field of vision and depth perception, therefore yes he should be granted a license to drive a semi.” Mr. Sabic reported that he has driven tractor-trailer combinations for 7 years, accumulating 140,000 miles. He holds a Class A CDL from Iowa. His driving record for the last 3 years shows no crashes and no convictions for moving violations in a CMV.

Klifford N. Siemens

Mr. Siemens, 53, has had amblyopia in his left eye since childhood. The visual acuity in his right eye is 20/20, and in his left eye, 20/60. Following an examination in 2014, his optometrist stated, “I see no reason why Mr. Siemens wouldn't be able to operate a commercial vehicle on the roadways as far as his eyes are concerned.” Mr. Siemens reported that he has driven straight trucks for 20 years, accumulating 20,000 miles, and tractor-trailer combinations for 11 years, accumulating 440,000 miles. He holds a Class A CDL from Kansas. His driving record for the last 3 years shows no crashes and no convictions for moving violations in a CMV.

Aaron H. Walser

Mr. Walser, 45, has a retinal detachment in his right eye due to a traumatic incident in 1990. The visual acuity in his right eye is 20/350, and in his left eye, 20/20. Following an examination in 2014, his optometrist stated, “Mr. Walser has had this visual defect for so long that he has adapted very well to it and I do not believe that it will impair his ability to operate a commercial vehicle, as he has been operating one for 30 years or so.” Mr. Walser reported that he has driven straight trucks for 25 years, accumulating 1.25 million miles, and tractor-trailer combinations for 25 years, accumulating 1.25 million miles. He holds a Class A CDL from Idaho. His driving record for the last 3 years shows no crashes and no convictions for moving violations in a CMV.

John A. Workman

Mr. Workman, 44, has had strabismic amblyopia in his right eye since birth. The visual acuity in his right eye is 20/80, and in his left eye, 20/20. Following an examination in 2014, his optometrist stated, “It is my impression that John Workman has sufficient vision to perform driving tasks required to operate a commercial vehicle.” Mr. Workman reported that he has driven straight trucks for 2.5 years, accumulating 120,000 miles. He holds an operator's license from Illinois. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2014-0296 in the “Keyword” box, and click “Search. When the new screen appears, click on “Comment Now!” button and type your comment into the text box in the following screen. Choose whether you are submitting your comment as an individual or on behalf of a third party and then submit. . If you submit your comments by mail or hand delivery, submit them in an unbound format, no larger than 8½ by 11 inches, suitable for copying and electronic filing. If you submit comments by mail and would like to know that they reached the facility, please enclose a stamped, self-addressed postcard or envelope.

FMCSA will consider all comments and material received during the comment period and may change this notice based on your comments.

Viewing Comments and Documents

To view comments, as well as documents mentioned in this preamble as being available in the docket, go to http://www.regulations.gov and insert the docket number FMCSA-2014-0296 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: September 18, 2014.
Larry W. Minor,
Associate Administrator for Policy.

[FR Doc. 2014-23238 Filed 9-29-14; 8:45 am]

BILLING CODE 4910-EX-P